DEPARTMENT OF COMMERCE

International Trade Administration

[A-427-814]

Notice of Extension of Time Limit for Final Results of Antidumping Duty Administrative Review: Stainless Steel Sheet and Strip in Coils From France

AGENCY: Import Administration, International Trade Administration, Department of Commerce.

EFFECTIVE DATE: December 8, 2005.

FOR FURTHER INFORMATION CONTACT: Elfi Blum-Page or Sean Carey, AD/CVD Operations, Office 6, Import Administration, International Trade Administration, U.S. Department of Commerce, 14th Street and Constitution Avenue, NW., Washington, DC 20230; telephone: (202) 482-0197 or (202) 482-3964, respectively.

SUPPLEMENTARY INFORMATION:

Background

On August 8, 2005, the Department published the preliminary results of the administrative review of the antidumping duty order on stainless steel sheet and strip in coils (SSSS) from France for the period of July 1, 2003, through June 30, 2004 (see Preliminary Results of Antidumping Duty Administrative Review: Stainless Steel Sheet and Strip in Coils from France, 70 FR 45668 (August 8, 2005) (Preliminary Results)). The current deadline for the final results of this review is December 6, 2005.

Extension of Time Limit for Final Results of Review

Section 751(a)(3)(A) of the Tariff Act of 1930, as amended (the Act), requires the Department of Commerce (the Department) to issue the final results in an administrative review within 120 days of the date on which the preliminary results were published. However, if it is not practicable to complete the review within this time period, section 751(a)(3)(A) of the Act allows the Department to extend the time limit for the final results to 180 days from the date of publication of the preliminary results.

Due to the complex nature of certain issues raised in the parties' comments to the Preliminary Results related to the calculation of specific adjustments (such as warranty expenses) and assessment rates, additional time is required to complete our analysis. Therefore, the Department finds that it is not practicable to complete the review within the original time frame. Consequently, in accordance with section 751(a)(3)(A) of the Act and section 351.213(h)(2) of the Department's regulations, the Department is extending the time limit for the completion of the final results of the review until no later than January 30, 2006, or 175 days from the publication of the preliminary results.

This notice is issued and published in accordance with section 751(a)(3)(A) of the Act.

Dated: December 2, 2005.
Stephen J. Claeys,
Deputy Assistant Secretary for Import Administration.

[FR Doc. E5-7082 Filed 12-7-05; 8:45 am]

Billing Code: 3510-DS-S